DEPARTMENT OF THE TREASURY

31 CFR Part 30

RIN 1505-AC09

TARP Standards for Compensation and Corporate Governance

AGENCY: Domestic Finance, Treasury.

ACTION: Interim final rule; correction.

SUMMARY: This document contains corrections to the preamble of an interim final rule that was published in the Federal Register on Monday, June 15, 2009 (74 FR 28394), relating to certain standards for compensation and corporate governance applicable to financial institutions receiving funds under the Troubled Assets Relief Program (TARP).

FOR FURTHER INFORMATION CONTACT: Office of Domestic Finance, Treasury (202) 927-6618 (not a toll-free number).

SUPPLEMENTARY INFORMATION:

Background

The interim final rule the preamble of which is subject to these corrections is under section 111 of the Emergency Economic Stabilization Act of 2008, as amended.

Need for Correction

As published, the preamble to the interim final rule contains errors that may prove to be misleading and are in need of correction.

Correction of Publication

Accordingly, the publication of the interim final rule, which was the subject of FR Doc. E9-13868, published on June 15, 2009 (74 FR 28394), is corrected as follows:

1. On page 28399, column 3, in the preamble under the heading SUPPLEMENTARY INFORMATION, the first paragraph, line 26 the language “Section 30.10 (Q-10) of the Interim Final Rule states that TARP recipients will be subject during the TARP period to the bonus limitation requirements based on the total amount of financial assistance outstanding under the TARP.” is corrected to read “Section 30.10 (Q-10) of the Interim Final Rule states that TARP recipients will be subject during the TARP period to the bonus limitation requirements based on the gross amount of all financial assistance provided to the TARP recipient, valued at the time the financial assistance was received.”

2. On page 28403, column 2, in the preamble under the heading Supplementary Information, the carryover paragraph, line 33 the language “(15) certain employees named in the certification are the SEOs and most highly compensated employees for the current fiscal year based on their compensation during the prior fiscal year;” is corrected to read “(15) an accurate list of the employees who are the SEOs and most highly compensated employees for the current fiscal year has been provided to the Treasury;”.

Dated: November 30, 2009.
Herbert M. Allison, Jr.,
Assistant Secretary for Financial Stability.

[FR Doc. E9-29026 Filed 12-4-09; 8:45 am]

BILLING CODE 4810-25-P